DEPARTMENT OF ENERGY

Federal Energy Regulatory Commission

[Project No. P-2244-022]

Energy Northwest; Notice of Application Tendered for Filing With the Commission and Establishing Procedural Schedule for Licensing and Deadline for Submission of Final Amendments

March 7, 2008.

Take notice that the following hydroelectric application has been filed with the Commission and is available for public inspection.

a. Type of Application: New Major License.

b. Project No.: P-2244-022.

c. Date Filed: February 25, 2008.

d. Applicant: Energy Northwest.

e. Name of Project: Packwood Lake Hydroelectric Project.

f. Location: The existing project is on Lake Creek, a tributary to Cowlitz River, in Lewis County in southwestern Washington near the unincorporated town of Packwood. The upper portion of the lake lies within the Goat Rocks Wilderness Area. The project occupies 503.25 acres of United States Forest Service land, 20.94 acres of Energy Northwest-owned land, and 15.04 acres of Washington State lands.

g. Filed Pursuant to: Federal Power Act 16 U.S.C. 791(a)-825(r).

h. Applicant Contact: Jack W. Baker, Vice President, Energy Northwest, Mail Drop 1035, P.O. Box 968, Richland, WA 99352-0968; telephone (509) 377-5078, or e-mail at jwbaker@energy-northwest.com.

i. FERC Contact: Kenneth Hogan, telephone (202) 502-8464, or e-mail at kenneth.hogan@ferc.gov.

j. This application is not ready for environmental analysis at this time.

k. Project Description: The existing project consists of the following: (1) an intake canal, a concrete drop structure (dam) and intake building on Lake Creek located about 424 feet downstream from the outlet of Packwood Lake, a 21,691-foot system of concrete pipe and tunnels, a 5,621-foot penstock, a surge tank, and a powerhouse with a 26.1-megawatt turbine generator; (2) a 452-acre reservoir (Packwood Lake) at a normal full pool elevation of 2,857 feet above mean sea level with approximately 4,162 acre-feet of usable storage; and (3) appurtenant facilities. The average annual generation at the project is about 90,998 megawatt-hours. The applicant proposes a slightly modified reservoir operational regime and higher instream flow releases to the bypassed reach on Lake Creek.

l. Locations of the Application: A copy of the application is available for review at the Commission in the Public Reference Room or may be viewed on the Commission's website at http://www.ferc.gov using the “eLibrary” link. Enter the docket number excluding the last three digits in the docket number field to access the document. For assistance, contact FERC Online Support at FERCOnlineSupport@ferc.gov or toll-free at (866) 208-3676, or for TTY, (202) 502-8659. A copy is also available for inspection and reproduction at the address in item (h) above.

m. You may also register online at http://www.ferc.gov/esubscribenow.htm to be notified via e-mail of new filings and issuances related to this or other pending projects. For assistance, contact FERC Online Support.

n. Procedural Schedule: The application will be processed according to the following Hydro Licensing Schedule. Note that revisions to this schedule are unlikely due to the strict deadlines associated with a project that is filed under the Integrated Licensing Process.

Milestone | Date
Application Deficiency Determination Letter and Issuance of Additional Information Requests (AIRs) | March 26, 2008.
Notice of Acceptance/Notice of Ready for Environmental Analysis | May 2008.
Filing of Interventions, Recommendations, Preliminary Terms and Conditions, and Fishway Prescriptions | July 2008.
Reply Comments Due | August 2008.
Issuance of Draft EA | January 2009.
Comments on Draft EA Due (30 days) | February 2009.
Filing of Final Terms and Conditions (90 days) | April 2009.
Issuance of Final EA | July 2009.

o. Final amendments to the application must be filed with the Commission no later than 30 days from the issuance date of the notice of ready for environmental analysis.

Kimberly D. Bose,
Secretary.

[FR Doc. E8-5108 Filed 3-13-08; 8:45 am]

BILLING CODE 6717-01-P